DEPARTMENT OF COMMERCE

International Trade Administration

[A-570-880]

Barium Carbonate From the People's Republic of China: Final Results of Expedited Second Sunset Review of the Antidumping Duty Order

AGENCY: Enforcement and Compliance, International Trade Administration, Department of Commerce.

SUMMARY: On February 3, 2014, the Department of Commerce (the “Department”) initiated the second five-year (“sunset”) review of the antidumping duty order on barium carbonate from the People's Republic of China (“PRC”) pursuant to section 751(c) of the Tariff Act of 1930, as amended (the “Act”).¹ As a result of this sunset review, the Department finds that revocation of the antidumping duty order on barium carbonate from the PRC would be likely to lead to continuation or recurrence of dumping at the levels indicated in the “Final Results of Review” section of this notice.

¹ See Initiation of Five-Year (“Sunset”) Review, 79 FR 6163 (February 3, 2014).

DATES: Effective Date: June 4, 2014.

FOR FURTHER INFORMATION CONTACT: Irene Gorelik, AD/CVD Operations, Enforcement and Compliance, International Trade Administration, U.S. Department of Commerce, 14th Street and Constitution Avenue NW., Washington, DC 20230; telephone: (202) 482-6905.

SUPPLEMENTARY INFORMATION:

Background

On March 5, 2014, the Department received an adequate substantive response from domestic interested party Chemical Products Corporation (“Petitioner”) within the deadline specified in 19 CFR 351.218(d)(3)(i).² We received no responses from respondent interested parties. As a result, the Department conducted an expedited (120-day) sunset review of the order, pursuant to section 751(c)(3)(B) of the Act and 19 CFR 351.218(e)(1)(ii)(C)(2).

² See Petitioner's March 5, 2014, submission.

Analysis of Comments Received

All issues raised in this sunset review are addressed in the “Issues and Decision Memorandum for the Expedited Second Sunset Review of the Antidumping Duty Order on Barium Carbonate from the People's Republic of China” from Christian Marsh, Deputy Assistant Secretary for Antidumping and Countervailing Duty Operations, to Paul Piquado, Assistant Secretary for Enforcement and Compliance, dated concurrently with, and hereby adopted by, this notice (“Decision Memorandum”). The issues discussed in the Decision Memorandum include the likelihood of continuation or recurrence of dumping and the magnitude of the margins likely to prevail if the order were to be revoked. Parties may find a complete discussion of all issues raised in the review and the corresponding recommendations in this public memorandum which is on file electronically via Enforcement and Compliance's Antidumping and Countervailing Duty Centralized Electronic Services System (“IA ACCESS”). Access to IA ACCESS is available to registered users at http://iaaccess.trade.gov and is available to all parties in the Central Records Unit, room 7046 of the main Department of Commerce building. In addition, a complete version of the Decision Memorandum is available directly on the Web at http://enforcement.trade.gov/frn/. The signed Decision Memorandum and the electronic versions of the Decision Memorandum are identical in content.

Scope of the Order

The merchandise covered by this order is barium carbonate, regardless of form or grade. The product is currently classifiable under subheading 2836.60.0000 of the Harmonized Tariff Schedule of the United States (“HTSUS”). Although the HTSUS subheading is provided for convenience and customs purposes, the written description of the scope of this proceeding is dispositive.

Final Results of Review

We determine that revocation of the order would be likely to lead to continuation or recurrence of dumping at the following weighted-average percentage margins:

Exporter | Weighted- average dumping margin (percent)
Qingdao Red Star Chemical Import & Export Co., Ltd. | 34.44
PRC-Wide Entity | 81.30

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 777(i)(1) of the Act.

Dated: May 28, 2014.
Paul Piquado,
Assistant Secretary for Enforcement and Compliance.

[FR Doc. 2014-12994 Filed 6-3-14; 8:45 am]

BILLING CODE 3510-DS-P